DEPARTMENT OF TRANSPORTATION

Federal Aviation Administration

Notice of Opportunity for Public Comment on a Proposed Change of Airport Property Land Use From Aeronautical to Non-Aeronautical Use at Tulsa International Airport, Tulsa, OK

AGENCY: Federal Aviation Administration (FAA), DOT.

ACTION: Notice.

SUMMARY: The FAA is considering a request from Tulsa Airports Improvement Trust to change approximately 507 acres located on the east side of the airport between North Mingo Road and Highway 169 from aeronautical use to non-aeronautical use and to authorize the conversion of the airport property.

The proposal consists of three parcels of land which were originally acquired under the following grants: Federal Airport Aid Program (FAAP) Nos. 9-34-032-C132 in 1963 and 3-34-032-C514 in 1965 and Airport Development Aid Program (ADAP) No.6-40-99-15 in 1978. The land comprising these parcels is outside the forecasted need for aviation development and is no longer needed for indirect or direct aeronautical use. The Airport wishes to develop this land for compatible commercial, non-aeronautical use. The Airport will retain ownership of this land and ensure the protection of Part 77 surfaces and compatible land use. The income from the conversion of these parcels will benefit the aviation community by reinvestment in the airport.

Approval does not constitute a commitment by the FAA to financially assist in the conversion of the subject airport property nor a determination of eligibility for grant-in-aid funding from the FAA. The disposition of proceeds from the conversion of the airport property will be in accordance with FAA's Policy and Procedures Concerning the Use of Airport Revenue, published in the Federal Register on February 16, 1999. In accordance with section 47107(h) of Title 49, United States Code, this notice is required to be published in the Federal Register 30 days before modifying the land-use assurance that requires the property to be used for an aeronautical purpose.

DATES: Comments must be received on or before July 8, 2019.

ADDRESSES: Send comments on this document to Mr. Justin Barker, Federal Aviation Administration, Arkansas/Oklahoma Airports District Office Manager, 10101 Hillwood Parkway, Fort Worth, TX 76177.

FOR FURTHER INFORMATION CONTACT: Ms. Alexis Higgins, Chief Executive Officer of Tulsa Airports Improvement Trust, 7777 East Apache, Suite A217, Tulsa, OK 74115, telephone 918-838-5001; or Mr. Justin Barker, Federal Aviation Administration, Arkansas/Oklahoma Airports District Office Manager, 10101 Hillwood Parkway, Fort Worth, TX 76177, telephone (817) 222-5630. Documents reflecting this FAA action may be reviewed at the above locations.

Issued in Fort Worth, TX, on May 30, 2019.
Ignacio Flores,
Director, Airports Division, FAA, Southwest Region.

[FR Doc. 2019-11990 Filed 6-6-19; 8:45 am]

BILLING CODE P